DEPARTMENT OF HEALTH AND HUMAN SERVICES

Centers for Disease Control and Prevention

[30Day-19-18AG]

Agency Forms Undergoing Paperwork Reduction Act Review

In accordance with the Paperwork Reduction Act of 1995, the Centers for Disease Control and Prevention (CDC) has submitted the information collection request titled Assessment of the Cancer Survivorship Demonstration Project to the Office of Management and Budget (OMB) for review and approval. CDC previously published a “Proposed Data Collection Submitted for Public Comment and Recommendations” notice on November 13, 2017 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Assessment of the Cancer Survivorship Demonstration Project—New—National Center for Chronic Disease Prevention and Health promotion (NCCDPHP), Centers for Disease Control and Prevention (CDC).

Background and Brief Description

Under CDC's National Comprehensive Cancer Control Program (NCCCP) Request for Applications DP5-1501, the Division of Cancer Prevention and Control (DCPC) funded six grantees to implement evidence-based and promising strategies to increase knowledge of cancer survivor needs, increase survivor knowledge of treatment and follow-up care, and increase provider knowledge of guidelines pertaining to treatment of cancer. Specifically, this initiative employs strategies that relate to increasing surveillance and community-clinical linkages. Through this initiative DCPC intends to help address the public health needs of cancer survivors. To facilitate evidence-informed policy making and quality improvement of federal programs, a comprehensive assessment is needed to characterize survivorship interventions and document outcomes.

CDC is requesting a three year OMB approval to collect information needed for this assessment. The proposed information collection will focus on how each grantee has expanded their knowledge of cancer survivor needs, increased utilization of surveillance data to inform program planning by providers and coalition members, and enhanced partnerships to facilitate and broaden program reach. Data will also be collected on challenges encountered and addressed, factors that facilitated implementation, and lessons learned along the way. The information to be collected does not currently exist for organizations and entities working to improve cancer survivorship needs. The insights to be gained from this data collection will be critical to improving immediate efforts and achieving the goals of spreading and replicating strategies to improve the public health needs of cancer survivors.

CDC plans to collect information during two cycles of the program (09/2018 and 05/2020) using a web-based Grantee survey of NCCCP DP15-1501 grantee program directors and program managers, a web-based Partner Survey of grantees' self-identified key partners (e.g., coalition members, providers, patient navigators), and semi-structured telephone interviews with NCCCP DP15-1501 grantee program directors and program managers. The data from the survey and semi-structured interviews will provide additional insight into program efforts.

CDC is requesting OMB approval to conduct a web-based Grantee survey using Survey Gizmo to a purposive sample of one program director and one program manager in each of six grantees for a total of 12 respondents, and to conduct a web-based Partner Survey of 10 self-identified key partners in each of six grantees for a total of 60 respondents. The web-based surveys will be administered to the same respondents at two time points for a total estimated burden of eight hours for the web-based Grantee Survey and 40 hours for the web-based Partner Survey. Respondents will be asked to provide information regarding the type of respondent; their use of surveillance data to inform survivorship interventions; communication, education, and training activities to support the implementation of survivorship interventions; partnership engagement; challenges and facilitators regarding the implementation of evidence-based cancer survivorship strategies; reach of cancer survivorship interventions; and respondent background information.

CDC is also requesting OMB approval to conduct semi-structured interviews by telephone with a purposive sample of one program director and one program manager in each of six grantees for a total of 12 respondents. The semi-structured interviews will be conducted with the same respondents at two time points for a total estimated burden of 30 hours. Respondents will be asked to provide information regarding administration of the Behavioral Risk Factor Surveillance System Cancer Survivorship Module; communication, education, and training activities to support the implementation of cancer survivorship interventions; community-clinical linkage strategies to support cancer survivors, knowledge regarding best practices for survivorship care; partnership engagement; dissemination of evidence-based survivorship interventions; and recommendations for improving the implementation of evidence-based survivorship interventions.

Information collected will be analyzed and used in aggregate to inform future efforts to support cancer survivors and to initiate evidence-informed program decisions when rolling this initiative out to all NCCCP grantees. Without this data collection, CDC will not be able to provide tailored technical assistance to its grantees and communicate program efforts. The estimated annual burden hours requested are 28.

Estimated Annualized Burden Hours
Type of respondent | Form name | Number of respondents | Number of responses per respondent | Average burden per response (in hrs)
NCCCP Grantee Program Director | Web-based Grantee survey | 8 | 1 | 20/60
| Semi-structured telephone interview | 8 | 1 | 90/60
NCCCP Grantee Partner | Web-based Partner survey | 40 | 1 | 20/60

Jeffrey M. Zirger,
Acting Lead, Information Collection Review Office, Office of Scientific Integrity, Office of Science, Centers for Disease Control and Prevention.

[FR Doc. 2018-25275 Filed 11-19-18; 8:45 am]

BILLING CODE 4163-18-P